DEPARTMENT OF VETERANS AFFAIRS

Privacy Act of 1974, as Amended; Computer Matching Program Between the Department of Veterans Affairs and the Internal Revenue Service, Department of the Treasury

AGENCY: Department of Veterans Affairs.

ACTION: Notice of Computer Matching Program.

Notice is hereby given that the Department of Veterans Affairs (VA) and the Internal Revenue Service (IRS) propose to conduct a computer matching program. The purpose of the program is to locate taxpayers who owe delinquent debts to the Federal Government as a result of their participation in benefit programs administered by VA. Once located, VA will pursue collection of debts through voluntary payments. If such payments are not forthcoming, VA may seek involuntary collection under the provisions of the Debt Collection Act of 1982, as amended.

The legal authority for undertaking this matching program is contained in the Internal Revenue Code at 26 U.S.C. 6103(m)(2)(A). VA and IRS have concluded an agreement to conduct the matching program pursuant to provisions of the Privacy Act of 1974, as amended (5 U.S.C. 552a(o)). IRS will act as the source (i.e., matching) agency. VA will provide a tape extract to IRS that contains the Name Control (the first four characters of the surname) and social security number (SSN) of each record subject. IRS will compare the tape extract against its database of taxpayers who have filed Federal individual income tax returns, establishing “hits” (i.e., individuals common to both tapes) on the basis of matched SSNs and Name Controls. For each hit, IRS will disclose to VA the following information: Name Control, SSN, and latest street address, post office box or other address furnished by the taxpayer.

Records to be Matched: The systems of records maintained by the respective agencies from which records will be disclosed for the purpose of this computer match are as follows:

CADE IRS: Individual Master File (IMF), Treasury/IRS 24.030, containing millions of records of taxpayers who have filed Federal individual income tax returns. A full description of the system of records was last published at 66 FR 63784 (December 10, 2001).

VA: Accounts Receivable Records-VA (88VA244) containing records of approximately 200,000 debtors. Disclosure will be made under routine use No. 18 of that system, a full description of which was last published at 63 FR 16864 on April 6, 1998.

The matching program is expected to begin on or about August 18, 2003, and continue in effect for 18 months. The agreement governing the matching program and, thus, the matching program, may be extended an additional 12 months with the respective approval of the Data Integrity Boards of both the Department of Veterans Affairs and the Department of the Treasury. Such extension must occur within three months prior to expiration of the 18-month period set forth above and under the terms set forth in 5 U.S.C. 552a(o)(2)(D).

ADDRESSES: Interested persons are invited to submit written comments, suggestions, or objections regarding the proposal to conduct the matching program to the Director, Regulations Management (00REG1), Department of Veterans Affairs, 810 Vermont Avenue, NW., Room 1064, Washington, DC 20420. All relevant material received before August 18, 2003, will be considered. All written comments received will be available for public inspection in the Office of Regulation Policy and Management, Room 1063B, between 8 a.m. and 4:30 p.m., Monday through Friday (except holidays). Please call (202) 273-9515 for an appointment.

FOR FURTHER INFORMATION CONTACT: Mark Gottsacker, Debt Management Center (389/00A), Department of Veterans Affairs, Bishop Henry Whipple Federal Building, 1 Federal Drive, Ft. Snelling, Minnesota 55111, (612) 970-5703.

SUPPLEMENTARY INFORMATION: This information is required by the Privacy Act of 1974, as amended (5 U.S.C. 552a(e)(12)). A copy of this notice has been provided to both Houses of Congress and to the Office of Management and Budget.

Approved: July 2, 2003.
Anthony J. Principi,
Secretary of Veterans Affairs.

[FR Doc. 03-18232 Filed 7-17-03; 8:45 am]

BILLING CODE 8320-01-P